DEPARTMENT OF HEALTH AND HUMAN SERVICES

Centers for Disease Control and Prevention

[60Day-05-05CC]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Pilot and Field Testing to Assist with the Planning of NCHS Data Collections—New—National Center for Health Statistics (NCHS), Centers for Disease Control and Prevention (CDC).

Background and Brief Description

The National Center for Health Statistics collects data through a number of on-going person-based and facility-based surveys. Among the major on-going surveys are the National Health Interview Survey (0920-0214) and the National Health and Nutrition Examination Survey (0920-0237). Due mainly to budgetary restraints, critical surveys such as the National Survey of Family Growth (0920-0314) and the National Survey of Hospice and Home Health Care (0920-0298) are not in the field continuously.

This new activity will allow pilot and field testing of planned surveys, most of which have received past OMB approval, resulting in enhanced knowledge and refined accuracy prior to requesting full OMB clearance. Some of the activities envisioned include: (1) The ability to measure the changes in technology in facility record keeping; (2) to test the feasibility of using improved information technology in data collection; and (3) to test new methodologies for obtaining sensitive information from individuals.

There is no cost to respondents other than their time to participate.

Estimate of Annualized Burden Hours
Respondents | Number of respondents | Number of responses per respondent | Average burden per response (in hours) | Total burden hours
Facility interview | 300 | 2 | 1.0 | 600
Household/in-person interview | 200 | 1 | 30/60 | 100
Total burden |  |  |  | 700

Dated: April 29, 2005.
Joan F. Karr,
Acting Reports Clearance Officer, Centers for Disease Control and Prevention.

[FR Doc. 05-9068 Filed 5-5-05; 8:45 am]

BILLING CODE 4163-18-P